DEPARTMENT OF THE INTERIOR

Office of the Secretary

Exxon Valdez Oil Spill Trustee Council; Renewal of the Public Advisory Committee

AGENCY: Office of the Secretary, Department of the Interior.

ACTION: Notice of Reestablishment.

In accordance with the provisions of the Federal Advisory Committee Act, as amended (5 U.S.C., App. 2), following the recommendation and approval of the Exxon Valdez Oil Spill Trustee Council, and in consultation with the General Services Administration the Secretary of the Interior hereby renews the charter for the Exxon Valdez Oil Spill Public Advisory Committee.

FOR FURTHER INFORMATION CONTACT: Douglas Mutter, Department of the Interior, Office of Environmental Policy and Compliance, 1689 “C” Street, Room 119, Anchorage, Alaska, (907) 271-5011.

SUPPLEMENTARY INFORMATION: The Court Order establishing the Exxon Valdez Oil Spill Trustee Council also requires a public advisory committee. The Public Advisory Committee was established to advise the Trustee Council, and began functioning in October 1992. The Public Advisory Committee consists of 15 members representing the following principal interests: Sport hunting and fishing, conservation and environmental, public-at-large, recreation users, commercial tourism, local government, science/technical, subsistence, commercial fishing, aquaculture and mariculture, regional monitoring programs, tribal government, marine transportation, and Native landowners.

In order to ensure that a broad range of public viewpoints continues to be available to the Trustee Council, and in keeping with the settlement agreement, the continuation of the Public Advisory Committee is recommended.

Certification

I hereby certify that the renewal of the Charter of the Public Advisory Committee is necessary and in the public interest in connection with the performance of duties mandated by the settlement of United States v. State of Alaska, No. A91-081 CV, and is in accordance with the Comprehensive Environmental Response, Compensation and Liability Act of 1980, as amended and supplemented.

Dated: November 5, 2008.
Dirk Kempthorne,
Secretary of the Interior.

[FR Doc. E8-26827 Filed 11-10-08; 8:45 am]

BILLING CODE 4310-RG-P